DEPARTMENT OF ENERGY

Comment Period Extension and Additional Public Hearing for Draft Environmental Impact Statement for a Geologic Repository for the Disposal of Spent Nuclear Fuel and High-Level Radioactive Waste at Yucca Mountain, Nye County, NV

AGENCY: Office of Civilian Radioactive Waste Management, Department of Energy.

ACTION: Notice of comment period extension and additional public hearing.

SUMMARY: On August 13, 1999, the U.S. Department of Energy (DOE) published a Notice of Availability (64 FR 44200) of its Draft Environmental Impact Statement (EIS) for a Geologic Repository for the Disposal of Spent Nuclear Fuel and High-Level Radioactive Waste at Yucca Mountain, Nye County, Nevada (DOE/EIS-0250-D) and announced a 180-day public comment period ending February 9, 2000. Based on input from the public, DOE is now announcing an additional public hearing in San Bernardino, California. The comment period is being extended to February 28, 2000.

DATES: The additional public hearing will be held on February 22, 2000, from 11:00 a.m. until 2:00 p.m. and from 6:00 p.m. until 9:00 p.m. The comment period for the Draft EIS is extended to February 28, 2000.

ADDRESSES: The additional public hearing will be held at the following location: Radisson Hotel, 295 North E. Street, San Bernardino, CA 92401.

Written comments on the Draft EIS should be directed to: Ms. Wendy R. Dixon, EIS Program Manager, M/S 010, U.S. Department of Energy, Office of Civilian Radioactive Waste Management, Yucca Mountain Site Characterization Office, P.O. Box 30307, North Las Vegas, NV 89036-0307. Comments may also be transmitted by facsimile to 1-800-967-0739 and should include the following identifier: “Yucca Mountain Draft EIS.” Comments may be submitted over the Internet via the Yucca Mountain Project website at http://www.ymp.gov, under the listing “Environmental Impact Statement.”

INVITATION TO COMMENT: The public is invited to provide comments on the Draft EIS during the comment period that ends on February 28, 2000. DOE will consider comments received during the comment period in preparation of the Final EIS. Comments received after February 28, 2000 will be considered to the extent practicable.

FOR FURTHER INFORMATION CONTACT: Ms. Wendy R. Dixon, EIS Program Manager, M/S 010, U.S. Department of Energy, Office of Civilian Radioactive Waste Management, Yucca Mountain Site Characterization Office, P.O. Box 30307, North Las Vegas, NV 89036-0307, Telephone 1-800-967-3477, Facsimile 1-800-967-0739. Copies of the document may also be requested by telephone (1-800-967-3477) or over the Internet via the Yucca Mountain Project website at http://www.ymp.gov, under the listing “Environmental Impact Statement”; the Draft EIS also may be viewed on this website.

Issued in Washington, DC, February 2, 2000.
Ivan Itkin,
Director, Office of Civilian Radioactive Waste Management.

[FR Doc. 00-2714 Filed 2-7-00; 8:45 am]

BILLING CODE 6450-01-P